DEPARTMENT OF THE INTERIOR

Fish and Wildlife Service

[FWS-R2-ES-2016-N149; FXES11130200000-167-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973 (Act), as amended, prohibits activities with endangered and threatened species unless a Federal permit allows such activities. Both the Act and the National Environmental Policy Act require that we invite public comment before issuing these permits.

DATES: To ensure consideration, written comments must be received on or before October 20, 2016.

ADDRESSES: Susan Jacobsen, Chief, Division of Classification and Restoration, by U.S. mail at Division of Classification and Recovery, U.S. Fish and Wildlife Service, P.O. Box 1306, Albuquerque, NM 87103; or by telephone at 505-248-6920. Please refer to the respective permit number for each application when submitting comments.

FOR FURTHER INFORMATION CONTACT: Susan Jacobsen, Chief, Division of Classification and Restoration, by U.S. mail at P.O. Box 1306, Albuquerque, NM 87103; or by telephone at 505-248-6920.

SUPPLEMENTARY INFORMATION: The Act (16 U.S.C. 1531 et seq.) prohibits activities with endangered and threatened species unless a Federal permit allows such activities. Along with our implementing regulations in the Code of Federal Regulations (CFR) at 50 CFR part 17, the Act provides for permits, and requires that we invite public comment before issuing these permits.

A permit granted by us under section 10(a)(1)(A) of the Act authorizes applicants to conduct activities with U.S. endangered or threatened species for scientific purposes, enhancement of survival or propagation, or interstate commerce. Our regulations regarding implementing section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-00482C

Applicant: William J. Dillsaver, Edmond, Oklahoma.

Applicant requests a new permit for research and recovery purposes to conduct presence/absence surveys for gray bats (Myotis grisescens) in Alabama, Arkansas, Florida, Georgia, Kansas, Kentucky, Mississippi, North Carolina, Oklahoma, South Carolina, Tennessee, and Texas.

Permit TE-00480C

Applicant: Christopher J. Seiden, Oklahoma City, Oklahoma.

Applicant requests a new permit for research and recovery purposes to conduct presence/absence surveys for gray bats (Myotis grisescens) in Alabama, Arkansas, Florida, Georgia, Kansas, Kentucky, Mississippi, North Carolina, Oklahoma, South Carolina, Tennessee, and Texas.

Permit TE-00479C

Applicant: Kevin L. Johnson, Oklahoma City, Oklahoma.

Applicant requests a new permit for research and recovery purposes to conduct presence/absence surveys for gray bats (Myotis grisescens) in Alabama, Arkansas, Florida, Georgia, Kansas, Kentucky, Mississippi, North Carolina, Oklahoma, South Carolina, Tennessee, and Texas.

Permit TE-00540C

Applicant: Karen McBee, Stillwater, Oklahoma.

Applicant requests a new permit for research and recovery purposes to conduct presence/absence surveys for gray bats (Myotis grisescens) in Oklahoma.

Permit TE-02164C

Applicant: University of Arizona, Tucson, Arizona.

Applicant requests a new permit for research and recovery purposes to conduct surveys for spikedace (Meda fulgida), loach minnow (Tiaroga cobitis), and Gila chub (Gila intermedia) within Arizona.

Permit TE-02234C

Applicant: University of Arizona, Tucson, Arizona.

Applicant requests a new permit for research and recovery purposes to conduct surveys for Gila chub (Gila intermedia) and Gila topminnow (Poeciliopsis occidentalis) within Arizona.

Permit TE-009926

Applicant: Gulf South Research Corporation, Baton Rouge, Louisiana.

Applicant requests an amendment to a current permit for research and recovery purposes to conduct presence/absence surveys for Sierra Nevada yellow-legged frogs (Rana sierrae) within California.

Permit TE-63202B

Applicant: Carol Chambers, Flagstaff, Arizona.

Applicant requests an amendment to a current permit for research and recovery purposes to conduct activities for New Mexico meadow jumping mice (Zapus hudsonius luteus) within Arizona, New Mexico, and Colorado.

Permit TE-02962C

Applicant: Erika M. Capps, Oologah, Oklahoma.

Applicant requests a new permit for research and recovery purposes to conduct presence/absence surveys for American burying beetles (Nicrophorus americanus) within Oklahoma.

Permit TE-02952C

Applicant: Westward Environmental, Inc., Boerne, Texas.

Applicant requests a new permit for research and recovery purposes to conduct presence/absence surveys of golden-cheeked warblers (Dendroica chrysoparia) within Texas.

Permit TE-83692A

Applicant: Sphere 3 Environmental, Inc., Longview, Texas.

Applicant requests a new permit for research and recovery purposes to conduct presence/absence surveys for red-cockaded woodpeckers (Picoides borealis) within Texas.

Permit TE-19661B

Applicant: Tetra Tech, Inc., Albuquerque, New Mexico.

Applicant requests an amendment to a current permit for research and recovery purposes to conduct presence/absence surveys for southwestern willow flycatchers (Empidonax traillii extimus) within Arizona, New Mexico, Texas, and Colorado; for northern aplomado falcons (Falco femoralis septentrionalis) within Texas; and for Jemez Mountains salamanders (Plethodon neomexicanus) within New Mexico.

Permit TE-04861C

Applicant: Portage, Inc., Idaho Falls, Idaho.

Applicant requests a new permit for research and recovery purposes to conduct presence/absence surveys for the following species within Arizona and New Mexico:

• Southwestern willow flycatcher (Empidonax traillii extimus)

• desert pupfish (Cyprinodon macularius)

• Gila chub (Gila intermedia)

• Gila topminnow (Poeciliopsis occidentalis)

• loach minnow (Tiaroga cobitis)

• razorback sucker (Xyrauchen texanus)

• spikedace (Meda fulgida)

• lesser long-nosed bat (Leptonycteris curasoae yerbabuenae)

Permit TE-70795A

Applicant: Bowers Environmental Consulting, LLC, Tucson, Arizona.

Applicant requests a new permit for research and recovery purposes to conduct presence/absence surveys for the following species within Arizona, New Mexico, and Texas:

• Southwestern willow flycatcher (Empidonax traillii extimus)

• Arizona hedgehog cactus (Echinocereus triglochidiatus var. arizonicus)

• Huachuca water-umbel (Lilaeopsis schaffneriana var. recurva)

• Kearney's blue-star (Amsonia kearneyana)

• Nichol's Turk's head cactus (Echinocactus horizonthalonius var. nicholii)

• Pima pineapple cactus (Coryphantha scheeri var. robustispina)

• razorback sucker (Xyrauchen texanus)

• bonytail chub (Gila elegans)

Permit TE-52420A

Applicant: Pima County, Tucson, Arizona.

Applicant requests a new permit for research and recovery purposes to conduct presence/absence surveys and salvage for the following species within Arizona:

• Southwestern willow flycatcher (Empidonax traillii extimus)

• lesser long-nosed bat (Leptonycteris curasoae yerbabuenae)

• Gila chub (Gila intermedia)

• Gila topminnow (Poeciliopsis occidentalis)

Permit TE-041875

Applicant: John L. Koprowski, Tucson, Arizona.

Applicant requests an amendment to a current permit for research and recovery purposes to capture and tag Sonoran tiger salamanders (Ambystoma tigrinum stebbinsi) within Arizona.

National Environmental Policy Act (NEPA)

In compliance with NEPA (42 U.S.C. 4321 et seq.), we have made an initial determination that the proposed activities in these permits are categorically excluded from the requirement to prepare an environmental assessment or environmental impact statement as provided by Department of the Interior implementing regulations in part 46 of title 43 of the Code of Federal Regulations (43 CFR 46.205, 46.210, and 46.215).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: September 6, 2016.
Joy Nicholopolous,
Acting Regional Director, Southwest Region, U.S. Fish and Wildlife Service.

[FR Doc. 2016-22566 Filed 9-19-16; 8:45 am]

BILLING CODE 4333-15-P